DEPARTMENT OF HEALTH AND HUMAN SERVICES

[Document Identifier 4040-0003; 60-day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to ed.calimag@hhs.gov, or call the Reports Clearance Office on (202) 690-6162. Written comments and recommendations for the proposed information collections must be directed to the OS Paperwork Clearance Officer at the above email address within 60-days.

Proposed Project

SF-424 Short Form, SF-424 Project Abstract Form, SF-424 Key Contacts Form—OMB No. 4040-0003.

Office: Grants.gov.

Abstract

The SF-424 (Short) provides the Federal grant-making agencies a simplified alternative to the Standard Form 424 data set and form. Agencies may use the SF-424 (Short) for grant programs not required to collect all the data that is required on the SF-424 core data set and form.

This information collection request includes two SF-424 supplemental forms, the Key Contacts form and the Project Abstract form. The Key Contacts form is an optional form that the agencies may include in the application package to collect additional key contact or point of contact information. The Project Abstract form is also an optional form that provides the mechanism for the applicant to attach a file that contains an abstract of the project, in a format specified by the agency.

Federal agencies will not be required to use the forms or to collect all of the information included on the proposed forms. The agency will identify the forms and the form sections that must be completed by applicants through instructions that will accompany the forms. Agencies will implement processes for reviewing the applications and awarding grant funds. These processes are reflected in agencies' policies and procedures documents. Agencies will also maintain and store application forms and data in accordance with their policies and practices.

The 4040-0003 collection expired on November 30, 2011. The Grants.gov Program Management Office requests a reinstatement without change.

Estimated Annualized Burden Table
Form | Type of respondent | Number of annual respondents | Number of responses per respondent | Average burden on respondent per response in hours | Total burden hours
SF-424 Short, Project Abstract, and Key Contacts Forms (4040-0003) | Grant Applicant | 13,615 | 1 | 1 | 13,615
Total |  | 13,615 | 1 | 1 | 13,615

Keith A. Tucker,
Office of the Secretary, Paperwork Reduction Act Clearance Officer.

[FR Doc. 2012-15028 Filed 6-19-12; 8:45 am]

BILLING CODE 4151-AE-P